DEPARTMENT OF HEALTH AND HUMAN SERVICES

Administration for Children and Families

Proposed Information Collection Activity; Comment Request

Proposed Projects

Title: National Directory of New Hires.

OMB No.: 0970-0166.

Description: The National Directory of New Hires (NDNH) is a centralized directory maintained by the Federal Office of Child Support Enforcement. The information maintained in the NDNH is collected electronically and used to help child support agencies in locating parents and enforcing child support orders. Also, Congress authorized specific State and Federal agencies to receive NDNH information for authorized purposes to assist in administering certain programs. The NDNH is authorized under 42 U.S.C. 653(i)(1).

The information collection activities pertaining to the NDNH are authorized by:

(1) 42 U.S.C. 653A(b)(1)(A) and (B), requiring employers to report all newly-hired employees to the State Directory of New Hires (SDNH);

(2) 42 U.S.C. 653A(g)(2)(A), requiring every SDNH to transmit the new hire information to the NDNH within three business days of the data being entered in the SDNH;

(3) 26 U.S.C. 3304(a)(16)(B), requiring the reporting of wage and unemployment compensation information contained in the records of agencies administering the State program under part A of Title IV of the Social Security Act; and

(4) Requiring the quarterly reporting of wages and other compensation under—

• 42 U.S.C. 653A(g)(2)(B), by every SDNH; and

• 42 U.S.C. 503(h)(1)(A), by State agencies administering the State's unemployment laws.

Respondents: Employers, State IV-A Agencies, State Child Support Agencies, and State Workforce Agencies.

Annual Burden Estimates
Instrument | Number of respondents | Rounded number of responses per respondent | Average burden hours per response | Total
New Hire: Employers Reporting Manually | 5,130,348 | 1.40 | .025 hours (1.5 minute) | 179,562.18
New Hire: Employers Reporting Electronically | 595,812 | 88.62 | .00028 hours (1 second) | 14,784.24
New Hire: States | 54 | 133,333.33 | .016667 hours (1 minute) | 120,002.40
QW & UI: States | 53 | 27.00 | .00028 hours (1 second) | 0.40
Multistate Employer Form | 4,632 | 1.00 | .050 hours (3 minutes) | 231.60
Estimate Total Annual Burden Hours |  |  |  | 314,581

Estimated Total Annual Burden Hours: 314,581 hours.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-26843 Filed 10-21-15; 8:45 am]

BILLING CODE 4184-01-P